CORPORATION FOR NATIONAL AND COMMUNITY SERVICE

Agency Information Collection Activities; Submission to the Office of Management and Budget for Review and Approval; Comment Request; AmeriCorps Program Life Cycle Evaluation—Climate Change Bundled Evaluation

AGENCY: Corporation for National and Community Service.

ACTION: Notice of information collection; request for comment.

SUMMARY: The Corporation for National and Community Service, operating as AmeriCorps, has submitted a public information collection request (ICR) entitled AmeriCorps Program Life Cycle Evaluation—Climate Change Bundled Evaluation for review and approval in accordance with the Paperwork Reduction Act.

DATES: Written comments must be submitted to the individual and office listed in the ADDRESSES section by December 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling Jehyra Asencio Yace at AmeriCorps at 202-956-9736 or by email to JAsencioYace@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on August 17, 2022 at 87 FR 50613-50614. This comment period ended October 17, 2022. Six public comments were received for this notice. Most of the comments included concerns and suggestions related to the broad research questions included in the 60-day notice that are addressed in the more detailed full evaluation plan and instruments. For example, one commenter suggested including environmental justice, vulnerable communities' involvement, and barriers, which are included in the surveys and interview and focus group protocols. In response to comments suggesting directly confronting recruitment, living allowances, and match, those questions have been added to the instruments. A full summary of comments and responses is available in the www.regulations.gov docket.

Title of Collection: AmeriCorps Program Life Cycle Evaluation—Climate Change Bundled Evaluation.

OMB Control Number: 3045-NEW.

Type of Review: New.

Respondents/Affected Public: Grantee organization project director and staff, national service members, partner organization staff.

Total Estimated Number of Annual Responses: 611.

Total Estimated Number of Annual Burden Hours: 235.

Abstract: The purpose of this evaluation is to provide insight on the implementation of the climate change bundle programs and explore variation in activities for education and training, disaster response, conservation, wildfire mitigation, and energy efficiency. It will explore the ways in which the programs influence community resilience. It will also examine changes in attitudes and behaviors toward civic engagement among national service members and the development of job skills, including skills for green jobs. Finally, it will examine how the programs are serving vulnerable communities and at-risk populations. The research questions for this evaluation are:

1. How do programs/members connect their work to climate change?

2. To what extent does the program include opportunities to increase equity?

3. To what extent is the program operating as intended?

4. What are some promising practices and challenges in implementing the climate change grant programs?

5. What were the barriers and facilitators to meet the intended outcomes of the program?

6. What are the lessons learned that can inform the field or be useful for practitioners that work in this space?

7. What is the likelihood that the program will be sustained beyond the grant?

8. How were the communities and community members impacted by climate change prior to the program?

9. What types of communities are being helped by the climate change grant programs?

10. To what extent are programs focused on vulnerable populations and communities?

11. What are the demographic characteristics of national service members (e.g., gender, age, race, ethnicity, education)?

12. What partner organizations are involved (i.e., community organizations, local agencies)? What are their roles in the program?

13. What is the breadth (number and type of partnership), quality, and quantity of the partnership(s) (number and frequency of joint activities and the strength)?

14. How were partnerships built and maintained?

15. How do grantee and sponsor organizations work with partners to build community resilience?

16. To what extent do the climate change grant programs: (a.) improve energy efficiency and increase the use of renewable energy sources? (b.) help communities prepare, respond, and recover from natural disasters and other climate change effects? (c.) preserve public lands and waterways and protect or restore biodiversity? (d.) increase community members' knowledge, attitudes, and behaviors around climate change? (e.) build capacity of the community to be resilient?

17. How do the climate change grant programs lead to increased civic engagement?

18. In what ways does participation in the climate change grant programs influence national service members' job skills development toward green jobs?

19. To what extent does participation in the climate change grant programs: (a.) increase national service members' functional and technical job skills? (b.) increase national service members' interest/willingness to pursue a career in a green job? (c.) lead to a job after their service? (d.) lead to a career in a green job after their service?

This bundled evaluation of grantees is being conducted by ICF through a contract with AmeriCorps; it will have an explicit emphasis on activities related to addressing climate change. By bundling, this evaluation combines a group of state commissions with similar program approaches into a single evaluation. Spanning 32 months, the evaluation includes up to 30 grantees to examine program design, implementation, and outcomes using surveys, interviews, and focus groups with a wide range of stakeholders including grantee staff, partner organizations, national service members, and community members. This is a new information collection.

Mary Hyde,
Director, Office of Research and Evaluation.

[FR Doc. 2022-25527 Filed 11-22-22; 8:45 am]

BILLING CODE 6050-28-P